DEPARTMENT OF THE INTERIOR

National Park Service

National Register of Historic Places; Notification of Pending Nominations and Related Actions

Nominations for the following properties being considered for listing or related actions in the National Register were received by the National Park Service before June 18, 2005.

Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by July 27, 2005.

John W. Roberts,
Acting Chief, National Register/National Historic Landmarks Program.

ALASKA

Valdez-Cordova Borough-Census Area

Cape Hinchinbrook Light Station, (Light Stations of the United States MPS), SW corner of Hinchinbrook Island on E side of Hinchinbrook Entrance of Prince William Sound, Cordova, 05000728

CALIFORNIA

Sonoma County

Condominium 1, 110-128 Sea Walk Dr., The Sea Ranch, 05000731

COLORADO

Denver County

Crammer House, (Jules Jacques Benois Benedict Architecture in Colorado MPS), 200 Cherry St., Denver, 05000732

Kohn House, (Jules Jacques Benois Benedict Architecture in Colorado MPS), 770 High St., Denver, 05000733

Weld County

White-Plumb Farm, 955 39th Ave., Greeley, 05000729

FLORIDA

Brevard County

Rossetter, James Wadsworth, House, 1328 Houston St., Melbourne, 05000734

IDAHO

Canyon County

Lockman, Jacob P. House, 23 9th Ave. N, Nampa, 05000735

MICHIGAN

Cheboygan County

Fourteen Foot Shoal Light Station, (Light Stations of the United States MPS), Northern Lake Huron, 2.2 mi. NE of Cheboygan River mouth, Cheboygan, 05000742

Spectacle Reef Light Station, (Light Stations of the United States MPS), Located in northern Lake Huron, 10.3 mi. NNE of Ninemile Point, Benton Township, 05000744

Mackinac County

Martin Reef Light Station, (Light Stations of the United States MPS), Northern Lake Huron, 4.3 mi. S of Cadogan Point, Clark Township, 05000743

Menominee County

Menominee Pierhead Light Station, (Light Stations of the United States MPS), Offshore end of Menominee Harbor N pier at mount of Menominee R, Menominee, 05000738

MICHIGAN

Oakland County

Franklin Historic District (Boundary Increase), Franklin Rd. and adjoining Sts., Franklin, 05000736

Wayne County

Cadillac Tower, 65 Cadillac Sq., Detroit, 05000737

MINNESOTA

Hennepin County

Sears, Roebuck and Company Mail-Order Warehouse and Retail Store, 2929 Chicago Ave. S, Minneapolis, 05000745

MISSISSIPPI

Lawrence County

Thompson, June and Nora, House, Sutton Rd., New Hebron, 05000739

Lowndes County

South Columbus Historic District (Boundary Increase), 1124 Main St., Columbus, 05000741

Montgomery County

Immanuel Epsicopal Church, 416 Summit St., Winona, 05000740

MISSOURI

Greene County

King, J.E., Manufacturing Company, (Springfield, Missouri MPS AD), 1350 St. Louis St., Springfield, 05000751

NEW YORK

Kings County

15th Street—Prospect Park Subway Station (IND), (New York City Subway System MPS), 15th St./Prospect Park W and SW, Brooklyn, 05000748

Ocean Parkway Station (Dual System BRT), (New York City Subway System MPS), Located above the jct. of Brighton Beach Ave. and Ocean Pkwy, Brooklyn, 05000749

Tioga County

Vesper Cliff, Outside Village of Owego, W bank of Owego Creek, off NY 17, Owego, 05000746

Tompkins County

Sayville Congregational Church, (Isaac Henry Green, Jr. Suffolk and Nassau Counties, New York MPS), 131 Middle Rd., Sayville, 05000747

OHIO

Delaware County

Gooding House and Tavern, 7669 Stagers Loop, Orange Township, 05000753

Franklin County

Berry, Richard Jr., House, 324 East North Broadway, Columbus, 05000754

Greene County

Fairborn Theatre, 34 S. Broad St., Fairborn, 05000755

Montgomery County

Deeds Carillon, 1000 Carillon Blvd., Dayton, 05000756

Ross County

Gartner Mound and Village Archeological District, Address Restricted, Chillicothe, 05000752

PENNSYLVANIA

Franklin County

Skinner Tavern, 13361 Upper Strasburg Rd., Letterkenny Township, 05000757

Northampton County

McCollum and Post Silk Mill, 368 Madison Ave., Nazareth Borough, 05000758

Philadelphia County

Smaltz Building, 315 N. 12th St., Philadelphia, 05000759

TENNESSEE

Cannon County

Ready-Cates Farm, (Historic Family Farms in Middle Tennessee MPS) 1662 Northcutt Rd., Milton, 05000760

Davidson County

First Baptist Church East Nashville, 601 Main St., Nashville, 05000761

VIRGINIA

Appomattox County

Appomatix River Bridge, VA 24 over Appomattox River, Appomattox, 05000771

Clarke County

Clermont, 801 E. Main St., Berryville, 05000767

Cumberland County

Oak Hill, 181 Oak Hill Rd., Cumberland, 05000764

Trenton, 751 Oak Hill Rd., Cumberland, 05000765

Fauquier County

Dakota, 8134 Springs Rd., Warrenton, 05000768

Frederick County

Long Meadow, 1946 Jones Rd., Winchester, 05000769

Loudoun County

Spring Hill Farm, 39018 Piggott Bottom Rd., Hamilton, 05000766

Montgomery County

Odd Fellows Hall, 203 Gilbert St., Blacksburg, 05000770

Page County

Redwell-Isabella Furnace Historic District, Bet. VA 652 and Hawksbill Creek on N side of Luray, Luray, 05000762

WISCONSIN

Milwaukee County

Greendale Historic District, Roughly bounded by W. Grange Ave. and Catalpa St., Greendale, 05000763

A request for REMOVAL has been made for the following resource:

MISSISSIPPI

Lauderdale County

Dial House (Meridian MRA) 1003 30th Ave. Meridian, 79003388

[FR Doc. 05-13595 Filed 7-11-05; 8:45 am]

BILLING CODE 4312-51-P